DEPARTMENT OF HOMELAND SECURITY

Office of the Secretary

Privacy Act of 1974; Retirement of Department of Homeland Security Transportation Security Administration System of Records

AGENCY: Privacy Office, Department of Homeland Security.

ACTION: Notice of retirement of one Privacy Act system of records notice.

SUMMARY: In accordance with the Privacy Act of 1974, the Department of Homeland Security is giving notice that it will retire the following Privacy Act system of records notice, Department of Homeland Security/Transportation Security Administration-015 Registered Traveler Operations Files (November 8, 2005, 69 FR 67735), which was written to establish a new system of records that governs information related to the Registered Traveler pilot program. The program is no longer in operation within the Transportation Security Administration and associated records have been destroyed in accordance with records disposition schedules approved by the National Archives and Records Administration.

DATES: These changes will take effect upon publication in the Federal Register.

FOR FURTHER INFORMATION CONTACT: For general questions, please contact: Peter Pietra, Director, Privacy Policy and Compliance, TSA-36, Transportation Security Administration, 601 South 12th Street, Arlington, VA 20598-6036; email: TSAPrivacy@dhs.gov. For privacy issues, please contact: Jonathan Cantor, (202-343-1717), Acting Chief Privacy Officer, Privacy Office, Department of Homeland Security, Washington, DC 20528.

SUPPLEMENTARY INFORMATION: Pursuant to the provisions of the Privacy Act of 1974, 5 U.S.C. 552a, and as part of its ongoing integration and management efforts, the Department of Homeland Security (DHS) is retiring the system of records notice, DHS/Transportation Security Administration (TSA)-015 Registered Traveler (RT) Operations File Files (November 8, 2005, 69 FR 67735), which was written to establish a new system of records that governs records related to the Registered Traveler pilot program. The program was designed to positively identify certain travelers who volunteered to participate in the program; expecting to expedite the pre-boarding process and improve allocation of TSA resources.

Eliminating the system of records notice DHS/TSA-015 (RT) will have no adverse impact on individuals, but will promote the overall streamlining and management of DHS Privacy Act record systems.

Dated: November 6, 2012.
Jonathan R. Cantor,
Acting Chief Privacy Officer, Department of Homeland Security.

[FR Doc. 2012-28677 Filed 11-26-12; 8:45 am]

BILLING CODE 9110-05-P